DEPARTMENT OF HOUSING AND URBAN DEVELOPMENT

[Docket No. FR-4932-N-01]

Notice of Funding Availability for Fiscal Year (FY) 2004 Rural Housing and Economic Development Program

AGENCY: Office of the Assistant Secretary for Community Planning and Development, HUD.

ACTION: Notice of funding availability (NOFA).

Overview Information

A. Federal Agency Name: Department of Housing and Urban Development, Community Planning and Development, Office of Rural Housing and Economic Development.

B. Funding Opportunity Title: Rural Housing and Economic Development (RHED) program.

C. Announcement Type: Initial Announcement.

D. Funding Opportunity Number: The Federal Register number is FR-4932-N-01. The OMB approval number is 2506-0169.

E. Catalog of Federal Domestic Assistance (CFDA) Number(s): Rural Housing and Economic Development. The CDFA number is 14.250.

F. DATES: Application Deadline: Applications are due May 24, 2004. Please see Section IV of this NOFA for application submission, delivery, and timely receipt requirements.

G. Optional, Additional Overview Content Information:

1. The purpose of the Rural Housing and Economic Development program is to build capacity at the state and local level for rural housing and economic development and to support innovative housing and economic development activities in rural areas. The funds made available under this program will be awarded competitively through a selection process conducted by HUD in accordance with the HUD Reform Act.

I. Funding Opportunity Description

A. Background

There has been a growing national recognition of the need to enhance the capacity of local rural nonprofit organizations, community development corporations, federally recognized Indian tribes, state housing finance agencies (HFAs) and state economic development and community development agencies to expand the supply of affordable housing and to engage in economic development activities in rural areas. A number of resources are available from the federal government to address these problems, including programs of the United States Department of Agriculture (USDA), the Economic Development Administration (EDA), the Appalachian Regional Commission (ARC), the Department of Interior (for Indian tribes), and HUD. The Rural Housing and Economic Development program was developed to supplement these resources and to focus specifically on capacity building and promoting innovative approaches to housing and economic development in rural areas. In administering these funds, HUD encourages you to coordinate your activities with those supported by any of the agencies listed above.

B. Definitions

1. Appalachia's Distressed Counties means those counties in Appalachia that the Appalachian Regional Commission (ARC) has determined to have unemployment and poverty rates that are 150 percent of the respective U.S. rates and a per capita income that is less than 67 percent of the U.S. per capita income, and have counties with 200 percent of the U.S. poverty rate and one other indicator, such as the percentage of overcrowded housing. Refer to http://www.arc.gov for a list of ARC distressed counties and more information.

2. Colonia means any identifiable, rural community that:

a. Is located in the state of Arizona, California, New Mexico, or Texas;

b. Is within 150 miles of the border between the U.S. and Mexico; and

c. Is determined to be a Colonia on the basis of objective need criteria, including a lack of potable water supply, lack of adequate sewage systems, and lack of decent, safe, sanitary, and accessible housing.

3. Farm Worker means a farm employee of an owner, tenant, labor contractor, or other operator raising or harvesting agricultural or aquacultural commodities; or a worker in the employment of a farm operator, handling, planting, drying, packing, grading, storing, delivering to storage or market, or carrying to market agricultural or aquacultural commodities produced by the operator. Seasonal farm workers are those farm employees who typically do not have a constant year-round salary.

4. Firm Commitment means an agreement by which an applicant's partner agrees to perform an activity specified in the application, and demonstrates the financial capacity to deliver the resources necessary to carry out the activity, and commits the resources to the activity, either in cash or through in-kind contributions. It is irrevocable, subject only to approval and receipt of a FY2004 Rural Housing and Economic Development grant. Each letter of commitment must include the organization's name and applicant's name, reference the Rural Housing and Economic Development program, and describe the proposed total level of commitment and responsibilities, expressed in dollar value for cash or in-kind contributions, as they relate to the proposed program. The commitment must be written on the letterhead of the participating organization, must be signed by an official of the organization legally able to make commitments on behalf of the organization, and must be dated no earlier than the date of publication of this NOFA. In documenting a firm commitment, the applicant's partner must:

a. Specify the authority by which the commitment is made, the amount of the commitment, the proposed use of funds, and the relationship of the commitment to the proposed investment. If the committed activity is to be self-financed, the applicant's partner must demonstrate its financial capability through a corporate or personal financial statement or other appropriate means. If any portion of the activity is to be financed through a lending institution, the participant must provide evidence of the institution's commitment to fund the loan;

b. Affirm that the firm commitment is contingent only upon the receipt of FY2004 Rural Housing and Economic Development funds and state a willingness on the part of the signatory to sign a legally binding agreement (conditioned upon HUD's environmental review and approval of a property where applicable) upon award of the grant.

5. Federally Recognized Indian tribe means any tribal entity eligible to apply for funding and services from the Bureau of Indian Affairs by virtue of its status as an Indian tribe. The list of federally recognized Indian tribes can be found in the notice published by the Department of the Interior on December 5, 2003 (68 FR 68180) and is also available from HUD.

6. Innovative Housing Activities means projects, techniques, methods, combinations of assistance, construction materials, energy efficiency improvements, or financing institutions or sources new to the eligible area or to its population. The innovative activities can also build upon and enhance a model that already exists.

7. Local Rural Nonprofit Organization or Community Development Corporation means either of the following:

a. Any private entity with tax-exempt status recognized by the Internal Revenue Service (IRS) which serves the eligible rural area identified in the application (including a local affiliate of a national organization that provides technical and capacity building assistance in rural areas); or

b. Any public nonprofit entity such as a Council of Governments that will serve specific local nonprofit organizations in the eligible area.

8. Lower Mississippi Delta Region means the eight-state, 240-county/parish region defined by Congress in the Lower Mississippi Delta Development Act, Public Law 100-460. Refer to http://www.dra.gov for more information.

9. Eligible Rural Area means one of the following:

a. A non-urban place having fewer than 2,500 inhabitants (within or outside of metropolitan areas).

b. A county with an urban population of 20,000 inhabitants or less.

c. Territory, including its persons and housing units, in the rural portions of “extended cities.” The U.S. Census Bureau identifies the rural portions of extended cities.

d. Open country that is not part of or associated with an urban area. The USDA describes “open country” as a site separated by open space from any adjacent densely populated urban area. Open space includes undeveloped land, agricultural land, or sparsely settled areas, but does not include physical barriers (such as rivers and canals), public parks, commercial and industrial developments, small areas reserved for recreational purposes, or open space set aside for future development.

e. Any place with a population not in excess of 20,000 and not located in a Metropolitan Statistical Area.

10. State Community and/or Economic Development Agency means any state agency that has promotion of economic development statewide or in a local community as its primary purpose.

11. State Housing Finance Agency means any state agency created to assist local communities and housing providers with financing assistance for development of housing in rural areas, particularly for low- and moderate-income people.

II. Award Information

A. Amount Allocated

1. Available Funds. Approximately $25 million in Fiscal Year (FY) 2004 funding (plus any additional funds available through recapture) are being made available through this NOFA.

2. Funding Categories and Maximum Award Amounts. HUD will award up to approximately $25 million on a competitive basis in the following, funding categories. Applicants must apply for funds in only one of the two categories: Category 1, Capacity Building, or Category 2, Support for Innovative Housing and Economic Development Activities.

a. Category 1: Capacity Building. HUD will award up to approximately $10 million to applicants for capacity building activities. This amount will go directly to local rural nonprofit organizations or community development corporations or federally recognized Indian tribes to increase an organization's capacity to support innovative housing and economic development activities. The maximum amount awarded to a successful applicant in this category will be $150,000.

b. Category 2: Support for Innovative Housing and Economic Development Activities. HUD will award up to approximately $15 million to federally recognized Indian tribes, state housing finance agencies (HFAs), state community and/or economic development agencies, local rural nonprofit organizations or community development corporations to support innovative housing and economic development activities in rural areas throughout the nation. The maximum amount awarded to a successful applicant in this category will be $400,000.

B. Grant Amount.

In the event, you, the applicant, are awarded a grant that has been reduced (e.g., the application contained some activities that were ineligible or budget information did not support the request), you will be required to modify your project plans and application to conform to the terms of HUD's approval before execution of the grant agreement. HUD reserves the right to reduce or de-obligate the award if suitable modifications to the proposed project are not submitted by the awardee within 90 days of the request. Any modifications must be within the scope of the original application. HUD reserves the right to not make awards under this NOFA.

C. Grant Period.

Recipients will have 36 months from the date of the executed grant agreement to complete all project activities.

D. Notification of Approval or Disapproval.

HUD will notify you whether or not you have been selected for an award. If you are selected, HUD's notice to you concerning the amount of the grant award (based on the approved application) will constitute HUD's conditional approval, subject to negotiation and execution of a grant agreement by HUD.

III. Eligibility Information

A. Eligible Applicants

Eligible applicants for the Rural Housing and Economic Development program are local rural nonprofit organizations and community development corporations, federally recognized Indian tribes, state housing finance agencies and state community and/or economic development agencies. Eligible applicants for each of the funding categories are as follows:

1. For Capacity Building Funding. If you are a local rural nonprofit, including grassroots, faith-based and other community-based grassroots organization, community development corporation, or federally recognized Indian tribe, you are eligible for capacity building funding to carry out innovative housing and economic development activities that should lead to an applicant becoming self-sustaining in the future.

2. For Support for Innovative Housing and Economic Development Activities Funding. If you are a local rural nonprofit organizations, including grassroots, faith-based and other community-based grassroots organization, community development corporation, federally recognized Indian tribe, state HFA, or state economic development or community development agency, you may apply for funding to support innovative housing and economic development activities in rural areas.

B. Cost Sharing or Matching

There is no match required under the Rural Housing and Economic Development program. Applicants that submit evidence of leveraging dollars under Rating Factor 4 “Leveraging Resources” will receive points according to the scale under that factor.

C. Other

1. Eligible Activities. The following are examples of eligible activities under the Rural Housing and Economic Development program. These examples are illustrative and are not meant to limit the activities that you may propose in your application:

a. For Capacity Building Funding. Capacity building for innovative Rural Housing and Economic Development involves the enhancement of existing organizations to carry out new functions or to perform existing functions more effectively. Permissible activities include, but are not limited to, the following:

(1) Enhancement of existing functions or creation of new functions to provide affordable housing and economic development in rural areas;

(2) Acquisition of additional space and support facilities;

(3) Salaries for additional staff needed to conduct the work, including financial management specialists, and economic development specialists;

(4) Training of staff in the areas of financial management, economic development financing, housing accessibility and visitability standards, fair housing issues, and complaint filing;

(5) Development of business plans to help the organization become self-sustaining;

(6) Development of Management Information Systems (MISs) and software to enable better and more accurate reporting of information to HUD and to other entities;

(7) Development of feasibility studies and market studies;

(8) Training in energy efficiency in construction for housing and commercial projects;

(9) Housing counseling services, including fair housing counseling, information on budgeting, and information on credit and available federal programs;

(10) Conducting conferences or meetings with other federal or state agencies to inform residents of programs, rights, and responsibilities associated with homebuying opportunities; and;

(11) Arranging for technical assistance to conduct needs assessments, conduct asset inventories, and develop strategic plans.

b. For Support of Innovative Housing and Economic Development Activities. This category is intended to support other costs for innovative housing and economic development activities. Permissible activities may include, but are not limited to the following:

(1) Cost of using new or innovative construction, energy efficiency, or other techniques that will result in the design or construction of innovative housing and economic development projects;

(2) Preparation of plans or of architectural or engineering drawings;

(3) Preparation of legal documents, government paperwork, and applications necessary for construction of housing and economic development activities to occur in the jurisdiction;

(4) Acquisition of land and buildings;

(5) Demolition of property to permit construction or rehabilitation activities to occur;

(6) Development of infrastructure to support the housing or economic development activities;

(7) Purchase of construction materials;

(8) Job training to support the activities of the organization;

(9) Homeownership counseling, including fair housing counseling, credit counseling, budgeting, access to credit, and other federal assistance available;

(10) Conducting conferences or meetings with other federal or state agencies to inform residents of programs, rights, and responsibilities associated with homebuying opportunities;

(11) Development of feasibility studies and market studies;

(12) Development of Management Information Systems (MISs) and software to enable better and more accurate reporting of information to HUD and to other entities;

(13) Establishing Community Development Financial Institutions (CDFIs), lines of credit, revolving loan funds, microenterprises, and small business incubators; and

(14) Provision of direct financial assistance to homeowners/businesses/developers, etc. This can be in the form of default reserves, pooling/securitization mechanisms, loans, grants, funding existing individual development accounts or similar activities.

2. Statutory and Regulatory Requirements. To be eligible for funding under HUD NOFAs issued during FY2004, you, the applicant, must meet all statutory and regulatory requirements applicable to this NOFA. If you need copies of the program regulations, they are available from the NOFA Information Center or through the http://www.grants.gov Web site. HUD may also eliminate ineligible activities from funding consideration and reduce funding amounts accordingly.

3. General HUD Threshold Requirements.

a. Ineligible Applicants. HUD will not consider an application from an ineligible applicant.

b. Dun and Bradstreet Data Universal Numbering System (DUNS) Number Requirement. Beginning in FY2004, any applicant seeking funding directly from HUD or other federal agencies must obtain a DUNS number and include it in its SF 424 Application for Federal Assistance submission. Failure to provide a DUNS number will prevent you from obtaining an award. Individuals who would personally apply for federal financial assistance, apart from any governmental, business, or nonprofit organization they may represent, are excluded from the requirement to obtain a DUNS number. This is pursuant to Office of Management and Budget (OMB) Policy issued in the Federal Register on June 27, 2003 (68 FR 38402). HUD's regulation implementing the DUNS Number requirement for its programs was issued in the Federal Register on March 26, 2004 (69 FR 15671). A copy of the OMB Federal Register Notice and HUD's regulation implementing the DUNS number can be found on HUD's Web site at http://www.hud.gov/offices/adm/grants/duns.cfm. Failure to provide a DUNS number with the application submission will be treated as a technical deficiency of the application. If the DUNS number is not provided within the cure period (see section V.B.1.g., Corrections to Deficient Applications) the application will not be funded. The Grants.gov Web page at http://www.grants.gov/GetStarted provides step-by-step instructions for obtaining a DUNS number, as well as procedures for registering in the Central Contractor Registry and e-Authentication. Registration in the Central Contractor Registry and receiving credentials from the Grants.gov E-Authentication provider are not necessary for submitting a paper copy application to HUD; only the DUNS number is required. Central contractor registration and e-Authentication is required for submittal of electronic grant applications through the Grants.gov portal. For FY2004, HUD is maintaining its policy of accepting paper copies of the application. However, it is HUD's intent to move to electronic submission of all applications in FY2005.

c. Compliance with Fair Housing and Civil Rights Laws.

(1) Applicants must comply with all applicable fair housing and civil rights requirements in 24 CFR 5.105(a).

(2) If you, the applicant:

(a) Have been charged with an on-going systemic violation of the Fair Housing Act; or

(b) Are a defendant in a Fair Housing Act lawsuit filed by the Department of Justice alleging an on-going pattern or practice of discrimination; or

(c) Have received a letter of findings identifying ongoing systemic noncompliance under Title VI of the Civil Rights Act of 1964, Section 504 of the Rehabilitation Act of 1973, or Section 109 of the Housing and Community Development Act of 1974; and

(d) The charge, lawsuit or letter of findings referenced in subpart (a), (b) or (c) above has not been resolved to HUD's satisfaction before the application deadline, then you are ineligible and HUD will not rate or rank your application. HUD will determine if actions to resolve the charge, lawsuit, or letter of findings taken prior to the application deadline are sufficient to resolve the matter.

(3) Examples of actions that normally would be considered sufficient to resolve the matter include, but are not limited to:

(i) A voluntary compliance agreement signed by all parties in response to a letter of findings;

(ii) A HUD-approved conciliation agreement signed by all parties;

(iii) A consent order or consent decree; or

(iv) An issuance of a judicial ruling or a HUD Administrative Law Judge's decision.

d. Conducting Business In Accordance with Core Values and Ethical Standards. Entities subject to 24 CFR parts 84 and 85 (most nonprofit organizations and state, local, and tribal governments or government agencies or instrumentalities that receive federal awards of financial assistance) are required to develop and maintain a written code of conduct (see 24 CFR 84.42 and 85.36(b)(3)). Consistent with regulations governing specific programs, your code of conduct must prohibit real and apparent conflicts of interest that may arise among officers, employees, or agents; prohibit the solicitation and acceptance of gifts or gratuities by your officers, employees, and agents for their personal benefit in excess of minimal value; and, outline administrative and disciplinary actions available to remedy violations of such standards. If you are awarded assistance under this NOFA, you will be required, prior to entering into an agreement with HUD, to submit a copy of your code of conduct and describe the methods you will use to ensure that all officers, employees, and agents of your organization are aware of your code of conduct. Failure to meet the requirement for a code of conduct will prohibit you from receiving an award of funds from HUD.

e. Delinquent Federal Debts. Consistent with the purpose and intent of 31 U.S.C. 3720B and 28 U.S.C. 3201(e), no award of federal funds shall be made to an applicant that has an outstanding delinquent federal debt unless: (1) The delinquent account is paid in full; (2) a negotiated repayment schedule is established and the repayment schedule is not delinquent; or (3) other arrangements satisfactory to HUD are made prior to the deadline submission date.

f. Pre-Award Accounting System Surveys. HUD may arrange for a pre-award survey of the applicant's financial management system in cases where the selected applicant has no prior federal support, the program office has reason to question whether the applicant's financial management system meets federal financial management standards, or the applicant is considered a high risk based upon past performance or financial management findings. HUD will not disburse funds to any applicant that does not have a financial management system that meets federal standards. See Section VI.B for additional information on this topic.

g. Name Check Review. Recommended applicants are subject to a name check review process. Name checks are intended to reveal matters that significantly reflect on the applicant's management and financial integrity or if any key individuals have been convicted or are presently facing criminal charges. If the name check reveals significant adverse findings that reflect on the business integrity or responsibility of the applicant or any key individual, HUD reserves the right to (1) deny funding or consider suspension/termination of an award immediately for cause; (2) require the removal of any key individual from association with management or implementation of the award; and (3) make appropriate provisions or revisions with respect to the method of payment or financial reporting requirements.

h. False Statements. A false statement in an application is grounds for denial or termination of an award and grounds for possible punishment as provided in 18 U.S.C. 1001.

i. Prohibition Against Lobbying Activities. You, the applicant, are subject to the provisions of Section 319 of Public Law 101-121 (approved October 23, 1989) (31 U.S.C. 1352) (the Byrd Amendment), which prohibits recipients of federal contracts, grants, or loans from using appropriated funds for lobbying the executive or legislative branches of the federal government in connection with a specific contract, grant, or loan. In addition, you must disclose, using Standard Form-LLL “Disclosure of Lobbying Activities,” any funds, other than federally appropriated funds, that will be or have been used to influence federal employees, Members of Congress, and congressional staff regarding specific grants or contracts. Federally recognized Indian tribes and tribally designated housing entities (TDHEs) established by federally recognized Indian tribes as a result of the exercise of the tribe's sovereign power are excluded from coverage of the Byrd Amendment.

j. Debarment and Suspension. In accordance with 24 CFR part 24, no award of federal funds may be made to applicants that are presently debarred or suspended, or proposed to be debarred or suspended, from doing business with the federal government. This requirement applies to all lower tier covered transactions and to all solicitations for lower tier covered transactions. The prohibition includes the following:

(1) Having principals who, within the previous three years, have been convicted of or had a civil judgment rendered against them for commission of fraud or a criminal offense in connection with obtaining, attempting to obtain, or performing a public (federal, state or local) transaction, violation of federal or state anti-trust statutes or commission of embezzlement, theft, forgery, bribery, falsification or destruction of records, making false statements, or receiving stolen property; and

(2) Charges or indictments by a governmental entity (federal, state or local) for commission of any of the above violations.

4. Additional Non-discrimination and Other Requirements. You, the applicant, and your subrecipients must comply with:

a. The Americans with Disabilities Act of 1990 (42 U.S.C. 1201 et seq.), the Age Discrimination Act of 1974 (42 U.S.C. 6101 et seq.), and Title IX of the Education Amendments Act of 1972 (20 U.S.C. 1681 et seq.).

b. Affirmatively Furthering Fair Housing. Under Section 808(e)(5) of the Fair Housing Act, HUD is obliged to affirmatively further fair housing. HUD requires the same of its funding recipients. If you are a successful applicant, you will have a duty to affirmatively further fair housing opportunities for classes protected under the Fair Housing Act. Protected classes include race, color, national origin, religion, sex, disability, and familial status. Your application must include specific steps to:

(1) Overcome the effects of impediments to fair housing choice that were identified in the jurisdiction's Analysis of Impediments (AI) to Fair Housing Choice;

(2) Remedy discrimination in housing; or

(3) Promote fair housing rights and fair housing choice.

Further, you, the applicant, have a duty to carry out the specific activities provided in your responses to the rating factors in this NOFA that address affirmatively furthering fair housing.

c. Economic Opportunities for Low- and Very Low-Income Persons (Section 3). Recipients of assistance under this NOFA must comply with Section 3 of the Housing and Urban Development Act of 1968, 12 U.S.C. 1701u (Economic Opportunities for Low- and Very Low-Income Persons in Connection with Assisted Projects) and the HUD regulations at 24 CFR part 135, including the reporting requirements at subpart E. Section 3 requires recipients to ensure that, to the greatest extent feasible, training, employment, and other economic opportunities will be directed to low- and very-low income persons, particularly those who are recipients of government assistance for housing, and business concerns that provide economic opportunities to low- and very low-income persons.

d. Ensuring the Participation of Small Businesses, Small Disadvantaged Businesses, and Woman-Owned Businesses. HUD is committed to ensuring that small businesses, small disadvantaged businesses, and woman-owned businesses participate fully in HUD's direct contracting and in contracting opportunities generated by HUD financial assistance. Too often, these businesses still experience difficulty accessing information and successfully bidding on federal contracts. State, local, and tribal governments are required by 24 CFR 85.36(e) and nonprofit recipients of assistance (grantees and subgrantees) by 24 CFR 84.44(b) to take all necessary affirmative steps in contracting for the purchase of goods or services to assure that minority firms, women's business enterprises, and labor surplus area firms are used whenever possible, or as otherwise specified in this NOFA.

e. Relocation. The relocation requirements of the Uniform Relocation Assistance and Real Property Acquisition Policies Act of 1970, as amended, and the implementing government-wide regulation at 49 CFR part 24 cover any person who moves permanently from real property or moves personal property from real property directly because of acquisition, rehabilitation, or demolition for an activity undertaken with HUD assistance. Some HUD program regulations also cover persons who are temporarily relocated. For example, 24 CFR 570.606(b)(2)(i)(D)(1)-(3) provides guidance on temporary relocation for the CDBG program. You, the applicant should review the regulations for the Rural Housing and Economic Development program when planning your project.

f. Executive Order 13166, Improving Access to Services for Persons With Limited English Proficiency (LEP). Executive Order 13166 seeks to improve access to federally assisted services, programs and benefits for individuals with limited English proficiency. Applicants obtaining an award from HUD must seek to provide access to program benefits and information to LEP individuals through translation and interpretive services in accordance with LEP Guidance published on December 19, 2003 (68 FR 70967). For assistance and information regarding your LEP obligation, go to www.LEP.gov.

g. Executive Order 13279, Equal Protection of the Laws for Faith-Based and Community Organizations. HUD is committed to full implementation of Executive Order 13279. The Executive Order established fundamental principles and policymaking criteria to guide federal agencies in formulating and developing policies that have implications for faith-based and community organizations to ensure the equal protection for these organizations in social services programs receiving federal financial assistance. Consistent with this order, HUD has undertaken a review of all policies and regulations that have implications for faith-based and community organizations, and has established a policy priority to provide full and equal access to grassroots faith-based and other community-based organizations in HUD program implementation. Copies of the regulatory changes can be found at: http://www.hud.gov/grants/index.cfm.

h. Accessible Technology. The Rehabilitation Act Amendments of 1998 (the Act) applies to electronic information technology (EIT) used by HUD for transmitting, receiving, using, or storing information to carry out the responsibilities of any federal funds awarded. The Act's coverage includes, but is not limited to, computers (hardware, software, word-processing, email, and web pages), facsimile machines, copiers, and telephones. Consistent with the principles of the Act, HUD requires the same of its funding recipients. If you are a successful applicant, you will be required when developing, procuring, maintaining, or using EIT, to ensure that the EIT allows employees with disabilities and members of the public with disabilities to have access to and use of information and data that is comparable to the access and use of information and data by employees and members of the public who do not have disabilities. If these standards impose a hardship on a funding recipient, the recipient may provide an alternative means to allow the individual to have access to and use the information and data. However, no recipient will be required to provide information services to a person with disabilities at any location other than a location at which the information services is generally provided.

i. Procurement of Recovered Materials. State agencies and agencies of a political subdivision of a state that are using assistance under a NOFA for procurement, and any person contracting with such an agency with respect to work performed under an assisted contract, must comply with the requirements of Section 6002 of the Solid Waste Disposal Act, as amended by the Resource Conservation and Recovery Act.

In accordance with Section 6002, these agencies and persons must procure items designated in guidelines of the Environmental Protection Agency (EPA) at 40 CFR part 247 that contain the highest percentage of recovered materials practicable, consistent with maintaining a satisfactory level of competition, where the purchase price of the item exceeds $10,000 or the quantity acquired in the preceding fiscal year exceeded $10,000; must procure solid waste management services in a manner that maximizes energy and resource recovery; and must have established an affirmative procurement program for procurement of recovered materials identified in the EPA guidelines.

j. Participation in HUD-Sponsored Program Evaluation. As a condition of the receipt of financial assistance under this NOFA, all successful applicants will be required to cooperate with all HUD staff or contractors performing HUD-funded research or evaluation studies.

k. Executive Order 13202, Preservation of Open Competition and Government Neutrality Towards Government Contractors' Labor Relations on Federal and Federally Funded Construction Projects. Compliance with HUD regulations at 24 CFR 5.108 that implement Executive Order 13202 is a condition of receipt of assistance under this NOFA.

l. Salary Limitation for Consultants. FY2004 funds may not be used to pay or to provide reimbursement for payment of the salary of a consultant, whether retained by the federal government or the grantee, at more than the daily equivalent of the rate paid for level IV of the Executive Schedule, unless specifically authorized by law.

m. OMB Circulars and Government-wide Regulations Applicable to Financial Assistance Programs. Depending on applicant type, specific OMB circulars listed below may apply. The policies, guidance, and requirements of OMB Circular A-87 (Cost Principles Applicable to Grants, Contracts and Other Agreements with State and Local Governments), OMB Circular A-21 (Cost Principles for Education Institutions), OMB Circular A-122 (Cost Principles for Non-Profit Organizations), OMB Circular A-133 (Audits of States, Local Governments, and Non-Profit Organizations), and the regulations at 24 CFR part 84 (Grants and Agreements with Institutions of Higher Education, Hospitals, and other Non-Profit Organizations), and 24 CFR part 85 (Administrative Requirements for Grants and Cooperative Agreements to state, local, and federally recognized Indian tribal governments), may apply to the award, acceptance, and use of assistance under this NOFA, and to the remedies for non-compliance, except when inconsistent with the provisions of the Consolidated Appropriations Act, 2004 (Pub. L. 108-199, approved January 23, 2004), other federal statutes or regulations, or the provisions of this NOFA. Copies of the OMB Circulars may be obtained from EOP Publications, Room 2200, New Executive Office Building, Washington, DC 20503, telephone (202) 395-3080 (this is not a toll-free number), toll-free from 800-877 8339 (TTY Federal Information Relay Service); or from the Web site, http://www.whitehouse.gov/omb/circulars/index.html.

n. Environmental Requirements. If you become a recipient under this NOFA to assist physical development activities or property acquisition, you are generally prohibited from acquiring, rehabilitating, converting, demolishing, leasing, repairing or constructing property, or committing or expending HUD or non-HUD funds for these types of program activities, until HUD has completed an environmental review in accordance with 24 CFR part 50. See Section V.B.7 for additional information on this topic.

Requirements regarding the Environmental Review of project sites proposed in your application for the Rural Housing and Economic Development program are found at Section V.B.1.e. of this NOFA.

o. Conflicts of Interest. If you are a consultant or expert who is assisting HUD in rating and ranking applicants for funding under this NOFA, you are subject to 18 U.S.C. 208, the federal criminal conflict of interest statute, and the Standards of Ethical Conduct for Employees of the Executive Branch regulation published at 5 CFR part 2635. As a result, if you have assisted or plan to assist applicants with preparing applications for this NOFA, you may not serve on a selection panel and you may not serve as a technical advisor to HUD. All individuals involved in rating and ranking applications in response to HUD's FY2004 NOFAs, either published simultaneously with this NOFA or after the publication of this NOFA, including experts and consultants, must avoid conflicts of interest and the appearance of conflicts. Individuals involved in the rating and ranking of applications received under this NOFA must disclose to HUD's General Counsel or HUD's Ethics Law Division, if applicable, how the selection or non-selection of any applicant under this NOFA will affect the individual's financial interests, as provided in 18 U.S.C. 208, or how the application process involves a party with whom the individual has a covered relationship under 5 CFR 2635.502. The individual must disclose this information prior to participating in any matter regarding this NOFA. If you have questions regarding these provisions or if you have questions concerning a conflict of interest, you may call the Office of General Counsel, Ethics Law Division, at (202) 708-3815.

p. Drug-Free Workplace. If you receive an award of funds from HUD, you are required to provide a drug-free workplace. Compliance with this requirement means that you will do the following:

(1) Publish a statement notifying employees that it is unlawful to manufacture, distribute, dispense, possess, or use a controlled substance in the applicant's workplace and that such activities are prohibited. The notice must specify the actions that will be taken against the employee for violation of this prohibition. The statement must also notify employees as a condition of employment under the federal award that they are required to abide by the terms of the statement and that the employees must agree to notify the employer in writing of any violation of a criminal drug statute in the workplace no later than five calendar days after such violation.

(2) Establish an on-going drug-free awareness program to inform employees about the following:

(a) The dangers of drug abuse in the workplace;

(b) The applicant's policy of maintaining a drug-free workplace; and

(c) Any available drug counseling, rehabilitation, or employee maintenance programs; and

(d) The penalties that may be imposed upon employees for drug abuse violations occurring in the workplace.

(3) Notify the federal agency in writing within ten calendar days after receiving notice from an employee of a drug abuse conviction or otherwise receiving actual notice of a drug abuse conviction. The notification must be provided in writing to the Office of Departmental Grants Management and Oversight, Department of Housing and Urban Development, 451 Seventh Street, SW., Room 3156, Washington, DC 20410-3000, along with the following information:

(a) The program title and award number for each HUD award covered; and

(b) The HUD staff contact name, phone, and fax number.

(4) Require that each employee engaged in the performance of the federally funded activity be given a copy of the drug-free workplace statement required in item (1) and notifying the employee that one of the following actions will be taken against the employee within 30 calendar days of receiving notice of any drug abuse conviction:

(a) Institution of a personnel action against the employee, up to and including termination, consistent with requirements of the Rehabilitation Act of 1973, as amended; or

(b) Requiring the employee to participate satisfactorily in a drug abuse assistance or rehabilitation program approved for such purposes by a federal, state, or local health, law enforcement, or other appropriate agency.

5. Program-Specific Threshold Requirements.

a. The application must receive a minimum rating score of 75 points to be considered for funding.

b. HUD will only fund eligible applicants as defined in this NOFA under Section III.A.

c. Applicants must serve an eligible rural area as defined in Section III. of this NOFA.

d. Proposed activities must meet the objectives of the Rural Housing and Economic Development program.

6. Program Requirements:

a. Applicants must demonstrate that their activities will continue to serve populations that are in need and that beneficiaries will have a choice of innovative housing and economic development opportunities as a result of these activities.

b. Environmental Review. Requirements regarding the Environmental Review of project sites proposed in your application for the Rural Housing and Economic Development program are found at Section V.B.1.e, of this NOFA.

c. Executive Order 13202. Requirements regarding construction projects proposed in your application for the Rural Housing and Economic Development program can be found in Section V.B.7. of this NOFA.

7. Energy Star. The Department of Housing and Urban Development has adopted a wide-ranging energy action plan for improving energy efficiency in all program areas. As a first step in implementing the energy plan, HUD, the Environmental Protection Agency (EPA), and the Department of Energy (DoE) have signed a joint partnership to promote energy efficiency in HUD's affordable housing efforts and programs. The purpose of the Energy Star partnership is to promote energy efficiency in the affordable housing stock and to help protect the environment. Awardees constructing, rehabilitating, or maintaining housing or community facilities are encouraged to promote energy efficiency in design and operations. They are urged especially to purchase and use Energy Star labeled products. Awardees providing housing assistance or counseling services are encouraged to promote Energy Star to homebuyers and renters. Program activities may include developing Energy Star promotional and information materials, outreach to low- and moderate-income renters and buyers on the benefits and savings when using Energy Star products and appliances, and promoting the designation of community buildings and homes as Energy Star compliant. For further information about Energy Star see http://www.energystar.gov or call 888-STAR-YES (888-782-7937). Persons with hearing or speech impairments may access this number through TTY by calling 888-588-9920 or the toll-free Federal Information Relay Service at 800-877-8339.

IV. Application and Submission Information

A. Address To Request Application Package

This section describes how you may obtain application forms. Copies of the published Rural Housing and Economic Development NOFA and application forms may be downloaded from the Grants.gov Web site at http://www.grants.gov/Find or you may call HUD's NOFA Information Center at 800-HUD-8929. (This is not a toll-free number.) Persons with hearing or speech impairment may access this number through TTY by calling toll-free Federal Information Relay Service at 800-877-8339.

1. Application Kit. An application kit for the Rural Housing and Economic Development program is not necessary for submitting an application in response to this announcement. This announcement contains all the information necessary for the submission of your application for the Rural Housing and Economic Development program. In response to concerns about the length of time it takes for the publication and dissemination of application kits, HUD has made an effort to improve the readability of our NOFAs and publish all required forms and formats for application submission in the Federal Register. As a result of this effort, you will not have to wait for an application kit to prepare your application for funding. HUD is continuing to streamline programs and application submission requirements and encourages the applicant community to offer additional suggestions. Please pay attention to the submission requirements and format for submission specified in this NOFA to ensure that you have submitted all required elements of your application.

The published Federal Register document is the official document that HUD uses to evaluate applications. Therefore, if there is a discrepancy between any materials published by HUD in its Federal Register publications and other information provided in paper copy or on http://www.Grants.gov/Find, the Federal Register publication prevails. Please be sure to review your application submission against the requirements in the Federal Register file of the NOFA(s) for which you are interested in applying. Paper copies of these documents can be obtained from the NOFA Information Center by calling 800-HUD-8929. Persons with hearing or speech impairments may access this number through TTY by calling the toll-free 800-HUD-2209.

2. Guidebook and Further Information. A guidebook to HUD programs titled “Connecting with Communities: A User's Guide to HUD Programs and the FY2004 NOFA Process” is available from the NOFA Information Center and HUD's Web site at http://www.hud.gov. The guidebook provides a brief description of all HUD programs, eligible applicants for the programs, and examples of how programs can work in combination to serve local community needs. To obtain a guidebook, or a paper copy of this notice, call the NOFA Information Center at 800-HUD-8929. Persons with hearing or speech impairments may access this number through TTY by calling the toll-free 800-HUD-2209.

You may request general information, paper copies of this NOFA and HUD NOFA policy requirements, and applications from the NOFA Information Center (800-HUD-8929 or 800-HUD-2209 (TTY)) between the hours of 9 a.m. and 8 p.m. (Eastern time) Monday through Friday, except on federal holidays. When requesting information, please refer to the name of the program you are interested in. Be sure to provide your name, address (including ZIP Code), and telephone number (including area code). You can also obtain information on this NOFA and download application information for HUD programs issued via NOFA during FY2004 through the http://www.Grants.gov Web site.

B. Content and Form of Application Submission

1. Application Submission Requirements. Be sure to read and follow the application submission requirements carefully.

a. Page Numbering. All pages of the application must be numbered sequentially. Your application must include an original and two copies of the items listed below.

b. Application Items. Your application must contain the items listed in this section. These items include the HUD standard forms and non-standard certifications that can be found in the Appendices to this NOFA. The items are as follows:

(1) A transmittal letter that must include the category under which you are applying, the dollar amount requested, the category under which you qualify for demographics of distress special factor under Rating Factor 2 “Need and Extent of the Problem”, which of the five definitions of the term “rural area” set forth in Section III (I.B.9.) of this NOFA applies to the proposed service area, and accompanying documentation as indicated on the form.

(2) Table of Contents.

(3) A signed SF-424 (application form).

(4) Assurances Non-Construction Programs (HUD-424B).

(5) Disclosure of Lobbying Activities (SF-LLL).

(6) Applicant/Recipient Disclosure/Update Report (HUD-2880).

(7) Client Comments and Suggestions (HUD 2994) (Optional).

(8) Survey on Ensuring Equal Opportunity for Applicants (HUD-23004).

(9) Program Outcome Logic Model (HUD-96010).

(10) SF-424 Supplement Survey on Equal Opportunity for Applicants (optional submission).

(11) A budget for all funds (federal and non-federal including HUD-424CB and HUD 424-CBW).

(12) Certification of Consistency with RC/EZ/EC Strategic Plan (HUD-2990), if applicable.

(13) Certification of Consistency with the Consolidated Plan (HUD-2991), if applicable.

(14) Racial and Ethnic Data Reporting Form (HUD-27061).

(15) Documentation of funds pledged in support of Rating Factor 4—“Leveraging Resources” (which will not be counted in the 15-page limitation). Documentation must be in the form of a firm commitment as defined in Section I.B.4. of this NOFA.

(16) The required certifications and assurances (signed, as appropriate, and attached as an Appendix).

(17) Acknowledgment of the Application receipt form (HUD 2993) (submitted with application and returned to you as verification of timely receipt).

(18) If you are a private nonprofit organization, a copy of your organization's IRS ruling providing tax-exempt status under section 501 of the Internal Revenue Code of 1986, as amended.

(19) Narrative response to Factors for Award.

(a) A description of your organization and assignment of responsibilities for the work to be carried out under the grant (Rating Factor 1).

(b) A description of the need and extent of the problem and populations to be served (Rating Factor 2).

(c) A workplan that demonstrates your soundness of approach and the clear linkage between rural housing and economic development (Rating Factor 3). In addressing this submission requirement, you must:

(i) Describe the activities you propose to undertake that address the needs, which have been identified, the linkage between rural housing and economic development, as well as the specific outcomes you expect to achieve.

(ii) Include a management plan that identifies the specific actions you will take to complete the proposed activities on time and a budget in the format provided that explains the uses of both federal and non-federal funds and the period of performance under the grant.

(iii) Include a discussion of the process by which the work accomplished with the grant will be evaluated to determine if the objectives of the grant were met.

(d) Identify the resources that will be leveraged by the amount of this grant's funding that you are requesting (Rating Factor 4). To receive the maximum number of points under Rating Factor 4 you must provide evidence of firm commitments.

(e) You must describe the extent to which your program reflects a coordinated, community-based process of identifying needs and building a system to address these needs, providing program beneficiaries with outcomes that result in increased independence and empowerment, and the potential for your organization to become financially self-sustaining. You must also describe how your activities will achieve the program outcomes, as described in Rating Factor 5 (Achieving Results and Program Evaluation), namely, where applicable, the number of housing units constructed, the number of housing units rehabilitated, the number of jobs created, the number of jobs retained, the number of participants trained, the number of new businesses created and the number of existing businesses assisted, number of housing units rehabilitated that will be made available to low-to-moderate income participants, percentage change in earnings as a result of employment for those participants, the percent of trained participants who find a job, annual estimated savings for low-income families as a result of energy efficiency improvements (Rating Factor 5).

(f) The total narrative response to all factors should not exceed 15 pages and must be submitted on 8.5″ by 11″ paper, using a 12 point font, with lines double spaced and printed only on one side. Please note that, although submitting pages in excess of the page limit will not disqualify your application, HUD will not consider or review the information on any excess pages, which may result in a lower score or failure to meet a threshold.

(20) Questionnaire for HUD's Initiative on Removal of Regulatory Barriers (HUD 27300).

C. Submission Dates and Times

1. Applications for the Rural Housing and Economic Development program must be postmarked at or before midnight of the application due date and received in HUD headquarters on or within five days after the application due date.

2. Applications received more than five days after the application due date will be deemed late and will not be considered.

3. Only one application will be accepted from any given organization. If more than one application is received from an organization, the application that was received first in HUD's Processing and Control Unit will be considered for funding. Any subsequent application from that organization will be deemed ineligible.

What to submit | Required content | Required form or format | When to submit
Application |  |  | May 24, 2004
Transmittal Letter
Application Form |  | SF-424
Budget information | (per required form) | HUD-CB HUD-CBW
Rating Factors: Narrative | Described in Section V.A. of this announcement.
Assurances | (per required form) | HUD-424B
Disclosure Update | ......do | HUD-2880
Disclosure of Lobby | ......do | SF-LLL
Certification of RC/EZ | ......do | HUD-2990
Certification of Consistency with Consolidated Plan | ......do | HUD 2991
Acknowledgement of Receipt | ......do | HUD-2993
Comments and Suggestions | ......do | HUD-2994
Survey on Ensuring Equal Opportunity for Applicants | ......do | HUD-23004
Racial and Ethnic Data Reporting Form | ......do | HUD-27061
Logic Model | ......do | HUD-96010
Questionnaire for HUD's Initiative on Removal of Regulatory Barriers | ......do | HUD-27300

D. Intergovernmental Agency Review

Intergovernmental agency review is not required for this program.

E. Funding Restrictions

1. Administrative Costs. Administrative costs for assistance under the Rural Housing and Economic Development program may not exceed 15 percent of the total HUD Rural Housing and Economic Development grant award.

2. Multiple Capacity Building Grants. If you have received two or more Rural Housing and Economic Development grants for capacity building since 1999, you are not eligible to apply under Category 1: Capacity Building.

3. Ineligible Activities. RHED funds cannot be used for the following activities:

a. Income payments to subsidize individuals or families;

b. Political activities;

c. General governmental expenses other than expenses related to the administrative cost of the grant; or

d. Projects or activities intended for personal gain or private use.

HUD reserves the right to reduce or deobligate the award if suitable modifications to the proposed project are not submitted by the awardee within 90 days of the request. Any modification must be within the scope of the original application. HUD reserves the right not to make awards under this NOFA.

F. Other Submission Requirements

1. Address for Submitting Applications. Completed applications (one original and two complete copies) must be submitted to Processing and Control Unit, Room 7251, Office of Community Planning and Development, Department of Housing and Urban Development, 451 Seventh Street, SW., Washington, DC 20410-7000, ATTN: Office of Rural Housing and Economic Development. When submitting your application, please include your name, mailing address (including ZIP Code), telephone number, and fax number (including area code).

2. Delivery and Receipt Procedures. The following procedures apply to the delivery and receipt of applications in HUD Headquarters. Please read the following instructions carefully and completely, because failure to comply with these procedures may disqualify your application. HUD's delivery and receipt policies are:

a. Hand deliveries will be permitted. However, if HUD staff are not available to accept your package or the courier service is not allowed to enter the building to deliver the package due to security or other reasons, the package will be determined not delivered and not accepted by HUD. In such instances, HUD recommends that you, the applicant, or your agent take your package to the nearest post office and follow the mailing instructions for postal service timely delivery. HUD will not take responsibility for ensuring that staff is available to take your package or breach security measures in order to accept an undeliverable package.

b. HUD will not accept or consider any application sent by facsimile.

c. HUD urges applicants sending packages by courier to the Robert C. Weaver Headquarters Building to use the following courier services, because these services have unescorted access to these buildings: DHL, Falcon Carrier, Federal Express (FedEx), and United Parcel Service (UPS). Packages may be mailed using the United States Postal Service. Mailed applications will be accepted as being timely submitted if they are received at the designated HUD location (including specified room number for receipt) within five days after the due date and show a postmark of being delivered to the postal facility for mailing by the application due date and time. If the Postal Service does not normally postmark large packages, the proof of timely submission shall be receipt of the application within five days after the due date at the designated HUD location and, upon request by an HUD official, proof of mailing using USPS Form 3817 (Certificate of Mailing) or a receipt from the Postal Service which contains the post office name, location, and date and time of mailing. For submission through the United States Postal Service, no other proof of timely submission will be accepted.

d. Applications mailed to a location or office not designated for receipt of the application, which results in the designated office not receiving your application in accordance with the requirements for timely submission, will result in your application being considered late and will not receive funding consideration. HUD will not be responsible for directing packages to the appropriate office.

Applicants should pay close attention to these submission and timely receipt instructions as it can make a difference in HUD accepting your application for funding consideration. Please remember that mail sent to federal facilities is screened prior to delivery, so please allow sufficient time for your package to be delivered. If an application is received late because of the processing time required for the screening, the application will not be considered for funding.

3. Proof of Timely Submission. Proof of timely submission of an application is specified below.

a. In the case of packages sent to HUD via a delivery service, other than the United States Postal Service, timely submission shall be evidenced via a delivery service receipt indicating that the application was delivered to a carrier service at least 24 hours prior to the application deadline, and, if applicable, that through no fault of the applicant, the delivery could not be made on or before the application due date. Couriers turned away from an HUD facility due to security issues will not be considered as meeting the requirement of “no fault of the applicant,” because applicants have been advised that delivery delays can arise when using courier services, resulting in a late application submission.

b. For packages submitted via the United States Postal Service, proof of timely submission shall be a postmark not later than the application due date or receipt not later than five days after the application due date at the designated HUD facility and, upon request by an HUD official, proof of mailing using USPS Form 3817 (Certificate of Mailing) or a receipt from the Post Office which contains the post office name, location and date and time of mailing. For submission through the United States Postal Service, no other proof of timely submission will be accepted. Applications not meeting the timely submission requirements will not be considered for funding.

4. Addresses. You, the applicant, must submit a complete application and the required number of copies to the location identified in this NOFA. When submitting your application, you must refer to the name of the program for which you are applying and include the correct room number to ensure that your application is properly directed. The address for deliveries to the Robert C. Weaver Federal Building is identified in this NOFA.

Please be sure to include the NOFA name and room number on your submission package.

5. Electronic Submission of Packages using Grants.gov. In FY2005, HUD intends to have applications submitted via the federal government's new electronic application portal called http://www.Grants.gov. Applicants are urged to become familiar with the Grants.gov site and to follow the steps under “Get Started” so that you will be prepared to apply on line for HUD and other federal agency programs.

For FY2004, paper applications will be considered by HUD to be the official application submission. HUD urges all applicants to become familiar with the http://www.grants.gov site and register to receive funding opportunity notifications. The Grants.gov site provides instructions on how to get a DUNS number, as well as registration and e-authentication procedures. The Grants.gov site provides a help desk to address Grants.gov technology issues, and HUD will establish a help line to address questions on program issues. The Grants.gov help line is 800-518-Grants. Individuals who personally apply for federal financial assistance, apart from any business or nonprofit organization they may operate, are excluded from the requirement to obtain a DUNS number. You can find a copy of HUD's DUNS regulation at http://www.hud.gov/grants/index.cfm.

V. Application Review Information:

A. Criteria

The following Rating Factors will be used to review, evaluate, and rate your application.

1. Rating Factor 1—Capacity of the Applicant and Relevant Organizational Experience (25 Points)

This rating factor addresses the extent to which you have the organizational resources necessary to successfully implement your proposed work plan, as further described in Rating Factor 3, within the 36-month award period.

a. Rating standards applicable to individual funding categories. The two funding categories have different objectives. Accordingly, in addition to the generally applicable rating standard discussed above, the different standards discussed below will be used to judge the experience and qualifications of the applicants for each of the two funding categories. HUD fully supports emerging organizations that desire to develop internal capacity. Therefore, the following categories will be evaluated:

(1) For Capacity Building applications (25 points). Team members, composition, experience, organizational structure, and management capacity. Your response to this sub-factor should clearly state the need that your organization will address with the requested assistance. In addition, you should describe how the enhanced capacity realized through the assistance will fulfill that need. HUD will evaluate the experience (including its recentness and relevancy) of your project director, core staff, and any outside consultant, contractor, subrecipient, or project partner as it relates to innovative housing and economic development and to the implementation of the activities in your workplan. HUD also will assess the services that consultants or other parties will provide to fill gaps in your staffing structure to enable you to carry out the proposed workplan; the experience of your project director in managing projects of similar size, scope, and dollar amount; the lines of authority and procedures that you have in place for ensuring that workplan goals and objectives are being met, that consultants and other project partners are performing as planned, and that beneficiaries are being adequately served. In responding to this sub-factor, please indicate how the capacity building assistance will strengthen or otherwise affect your organization's current housing or economic development program portfolio or, if you are a new grantee, how the capacity assistance will ensure that you can carry out your proposed activities. In judging your response to this factor, HUD will only consider work experience gained within the last three years. When responding, please be sure to provide the dates, job titles and relevancy of the past experience to work to be undertaken by the employee or contractor under your Rural Housing and Economic Development program application. The more recent, relevant, and successful the experience of your team members is in relationship to the workplan activities, the greater the number of points you will receive.

(2) For Support for Innovative Rural Housing and Economic Development Activities applications:

(a) Team members, composition, and experience (10 points). HUD will evaluate the experience (including its recentness and relevancy) of your project director, core staff, and any outside consultant, contractor, subrecipient, or project partner as it relates to innovative housing and economic development and to the implementation of the activities in your workplan. HUD also will assess the services that consultants or other parties will provide to fill gaps in your staffing structure to enable you to carry out the proposed workplan; the experience of your project director in managing projects of similar size, scope, and dollar amount; the lines of authority and procedures that you have in place for ensuring that workplan goals and objectives are being met, that consultants and other project partners are performing as planned, and that beneficiaries are being adequately served. In judging your response to this factor, HUD will only consider work experience gained within the last seven years. When responding, please be sure to provide the dates, job titles and relevancy of the past experience to work to be undertaken by the employee or contractor under your proposed Rural Housing and Economic Development award. The more recent, relevant, and successful the experience of your team members are in relationship to the workplan activities, the greater the number of points that you will receive.

(b) Organizational structure and management capacity (5 points). HUD will evaluate the extent to which you can demonstrate your organization's ability to manage a workforce composed of full-time or part-time staff, as well as any consultant staff, and your ability to work with community-based groups or organizations in resolving issues related to affordable housing and economic development. In evaluating this subfactor, HUD will take into account your experience in working with community-based organizations to design and implement programs that address the identified housing and economic development issues. The more recent, relevant, and successful the experience of your organization and any participating entity, the greater the number of points you will receive.

(c) Experience with performance-based funding requirements (10 points). HUD will evaluate your performance in any previous grant program undertaken with HUD funds or other federal, state, local, or nonprofit or for-profit organization funds. In assessing points for this sub-factor, HUD reserves the right to take into account your past performance in meeting performance and reporting goals for any previous HUD award, in particular whether the program achieved its outcomes. HUD will deduct one point for each of the following activities related to previous HUD grant programs for which unsatisfactory performance has been verified: (1) Mismanagement of funds, including the inability to account for funds appropriately; (2) untimely use of funds received either from HUD or other federal, state, or local programs; and (3) significant and consistent failure to measure performance outcomes. Among the specific outcomes to be measured are the increases in program accomplishments as a result of capacity building assistance and the increase in organizational resources as a result of assistance.

b. Past Rural Housing and Economic Development program performance. The past performance of previously awarded Rural Housing and Economic Development grantees will be taken into consideration when evaluating Rating Factor 1 “Capacity of the Applicant and Relevant Organizational Experience.” Applicants who have been awarded Rural Housing and Economic Development program funds prior to FY2004 should indicate fiscal year and funding amount. HUD local field offices may be consulted to verify information submitted by the applicant as a part of the review of applications.

2. Rating Factor 2—Need and Extent of the Problem (20 Points)

The Rural Housing and Economic Development program is designed to address the problems of rural poverty, inadequate housing and lack of economic opportunity. This factor addresses the extent to which there is a need for funding the proposed activities based on levels of distress and the urgency of meeting the need/distress in the applicant's target area. In responding to this factor, applications will be evaluated on the extent to which the level of need for the proposed activity and the urgency in meeting the need are documented and compared to target area and national data.

a. In applying this factor, HUD will compare the current levels of need in the area (i.e., Census Tract(s) or Block Group(s)) immediately surrounding the project site or the target area to be served by the proposed project and the national levels of need. This means that an application that provides data that show levels of need in the project area expressed as a percent greater than the national average will be rated higher under this factor. Notwithstanding the above, an applicant proposing a project to be located outside the target area could still receive points under Rating Factor 2, if a clear rationale is provided linking the proposed project location and the benefits to be derived by persons living in distressed parts of the applicant's target area.

b. Applicants should provide data that address indicators of need as follows:

(1) Poverty Rate (5 points)—Data should be provided in both absolute and percentage form (i.e., whole numbers and percents) for the target area(s). An application that compares the local poverty rate in the following manner to the national average at the time of submission will receive points under this section as follows:

(a) Less than the national average = 0 points;

(b) Equal to but less than twice the national average = 1 point;

(c) Twice but less than three times the national average = 3 points;

(d) Three or more times the national average = 5 points.

(2) Unemployment (5 points)—for the target area:

(a) Less than the national average = 0 points;

(b) Equal to but less than twice the national average = 1 point;

(c) Twice but less than three times the national average = 2 points;

(d) Three but less than four times the national average = 3 points;

(e) Four but less than five times the national average = 4 points;

(f) Five or more times the national average = 5 points.

(3) Other indicators of social or economic decline that best capture the applicant's local situation (5 points).

(a) Data that could be provided under this section are information on the community's stagnant or falling tax base, including recent commercial or industrial closings; housing conditions, such as the number and percentage of substandard or overcrowded units; rent burden (defined as average housing cost divided by average income) for the target area; local crime statistics, falling property values, etc. To the extent that the applicant's statewide or local Consolidated Plan, its Analysis of Impediments to Fair Housing Choice (AI), or its anti-poverty strategy identify the level of distress in the community and the neighborhood in which the project is to be carried out, references to such documents should be included in preparing the response to this factor.

(b) In rating applications under this factor, HUD reserves the right to consider sources of available objective data other than or in addition to those provided by applicants, and to compare such data to those provided by applicants for the project site. These may include U.S. Census data.

(c) HUD requires use of sound, verifiable, and reliable data (e.g., U.S. Census data, state statistical reports, university studies/reports, or Home Mortgage Disclosure Act or Community Reinvestment Act databases) to support distress levels cited in each application. See http://www.ffiec.gov/webcensus/ffieccensus.htm. A source for all information along with the publication or origination date must also be provided.

(d) Updated Census data are available for the following indicators:

(i) Unemployment rate—estimated monthly for counties, with a two-month lag;

(ii) Population—estimated for incorporated places and counties, through 2000;

(iii) Poverty rate—through 2000.

(4) Demographics of Distress—Special Factors (5 points). Because HUD is concerned with meeting the needs of certain underserved areas, you will be awarded a total of five points if you are located in or propose to serve one or more of the following populations, or if your application demonstrates that 100 percent of the beneficiaries supported by Rural Housing and Economic Development funds are in one or more of the following populations. You must also specifically identify how each population will be served and that the proposed service area meets the definition of “eligible rural area” in Section I of this NOFA:

(a) Areas with very small populations in non-urban areas (2,500 population or less);

(b) Seasonal farm workers;

(c) Federally recognized Indian tribes;

(d) Colonias;

(e) Appalachia's Distressed Counties; or

(f) The Lower Mississippi Delta Region (8 states and 240 counties/parishes).

For these underserved areas, you should ensure that the populations that you serve and the documentation that you provide are consistent with the information described in the above paragraphs under this rating factor.

3. Rating Factor 3—Soundness of Approach (20 Points)

This factor addresses the overall quality of your proposed workplan, taking into account the project and the activities proposed to be undertaken; the cost-effectiveness of your proposed program; and the linkages between identified needs, the purposes of this program, and your proposed activities and tasks. In addition, this factor addresses your ability to ensure that a clear linkage exists between innovative rural housing and economic development. In assessing cost-effectiveness, HUD will take into account your staffing levels; beneficiaries to be served; and your timetable for the achievement of program outcomes, the delivery of products and reports, and any anticipated outcome or product. You will receive a greater number of points if your workplan is consistent with the purpose of the Rural Housing and Economic Development program, your program goals, and the resources provided.

a. Management Plan (13 points). A clearly defined management plan should be submitted that identifies each of the projects and activities you will carry out to further the objectives of this program; describes the linkage between rural housing and economic development activities; and addresses the needs identified in Factor 2, including needs that previously were identified in a statewide or local Analysis of Impediments to Fair Housing Choice (AI) or Consolidated Plan. The populations that were described in Rating Factor 2 for the purpose of documenting need should be the same populations that will receive the primary benefit of the activities, both immediately and over the long term. The benefits should be affirmatively marketed to those populations least likely to apply for and receive these benefits without such marketing. Your timetable should address the measurable goals and objectives to be achieved through the proposed activities; the method you will use for evaluating and monitoring program progress with respect to those activities; and the method you will use to ensure that the activities will be completed on time and within your proposed budget estimates. Your management plan should also include the budget for your program, broken out by line item. Documented projected cost estimates from outside sources are also required. Applicants should submit their workplan on a spreadsheet showing each project to be undertaken and the tasks (to the extent necessary or appropriate) in your workplan to implement the project with your associated budget estimate for each activity/task. Your workplan should provide the rationale for your proposed activities and assumptions used in determining your project timeline and budget estimates. Failure to provide your rationale may result in your application receiving fewer points for lack of clarity in the proposed management plan.

This subfactor should include information that indicates the extent to which you have coordinated your activities with other known organizations (e.g., through letters of participation or coordination) that are not directly participating in your proposed work activities, but with which you share common goals and objectives and that are working toward meeting these objectives in a holistic and comprehensive manner. The goal of this coordination is to ensure that programs do not operate in isolation. Additionally, your application should demonstrate the extent to which your program has the potential to be financially self-sustaining by decreasing dependence on Rural Housing and Economic Development funding and relying more on state, local, and private funding. The goal of sustainability is to ensure that the activities proposed in your application can be continued after your grant award is complete.

b. Policy Priorities (7 Points). Policy priorities are further outlined in Section V.B.3. below. You should document the extent to which HUD's policy priorities are furthered by the proposed activities. Applicants that include activities that can result in the achievement of these departmental policy priorities will receive higher rating points in evaluating their application for funding. Six departmental policy priorities are listed below. When policy priorities are included, describe in brief detail how those activities will be carried out.

The point values for policy priorities are as follows:

(1) Providing increased homeownership and rental opportunities for low- and moderate-income persons, persons with disabilities, the elderly, minorities, and families with limited English proficiency = 1 point;

(2) Improving our Nation's communities = 1 point;

(3) Encouraging accessible design features = 1 point;

(4) Providing full and equal access to grassroots faith-based and other community-based organizations in HUD program implementation = 1 point;

(5) Ending chronic homelessness within ten years = 1 point and;

(6) Removal of barriers to affordable housing = up to 2 points.

4. Rating Factor 4—Leveraging Resources (10 Points)

This factor addresses the extent to which applicants for either of the two funding categories have obtained firm commitments of financial or in-kind resources from other federal, state, local, and private sources. For every Rural Housing and Economic Development program dollar anticipated, you should provide the specific amount of dollars leveraged. In assigning points for this criterion, HUD will consider the level of outside resources obtained in the form of cash or in-kind goods or services that support activities proposed in your application. HUD will award a greater number of points based upon a comparison of the extent of leveraged funds with the requested Rural Housing and Economic Development award. This criterion is applicable to both funding categories under this NOFA. The level of outside resources for which commitments are obtained will be evaluated based on their importance to the total program. Your application must provide evidence of leveraging in the form of letters of firm commitment from any entity, including your own organization, which will be providing matching funds to the project. Each commitment described in the narrative of this factor must be in accordance with the definition of “firm commitment,” as defined in this NOFA. The commitment letter must be on letterhead of the participating organization, must be signed by an official of the organization legally able to make commitments on behalf of the organization, and must not be dated earlier than the date this NOFA is published.

Points for this factor will be awarded based on the satisfactory provisions of evidence of leveraging and financial sustainability, as described above, and the ratio of leveraged funds to requested HUD Rural Housing and Economic Development funds as follows:

a. 50% or more of requested HUD Rural Housing and Economic Development funds = 10 points;

b. 49-40% of requested HUD Rural Housing and Economic Development funds = 8 points;

c. 39-30% of requested HUD Rural Housing and Economic Development funds = 6 points;

d. 29-20% of requested HUD Rural Housing and Economic Development funds = 4 points;

e. 19-9% of requested HUD Rural Housing and Economic Development funds = 2 points;

f. Less than 9% of HUD requested Rural Housing and Economic Development funds = 0 points.

5. Rating Factor 5—Achieving Results and Program Evaluation (25 Points)

This factor emphasizes HUD's commitment to ensuring that applicants keep promises made in their application and assesses their performance to ensure that rigorous and useful performance measures are used and goals are met. Achieving results means you, the applicant, have clearly identified the benefits or outcomes of your program. Outcomes are ultimate project end goals. Benchmarks or outputs are interim activities or products that lead to the ultimate achievement of your goals. Program evaluation requires that you, the applicant, identify program outcomes, interim products or benchmarks, and performance indicators that will allow you to measure your performance. Performance indicators should be objectively quantifiable and measure actual achievements against anticipated achievements. Your evaluation plan should identify what you are going to measure, how you are going to measure it, and the steps you have in place to make adjustments to your work plan if performance targets are not met within established time frames.

Applicants must also complete the “Logic Model” HUD Form (HUD-96010) included in the appendix to this NOFA and submit the completed form with their application. This rating factor reflects HUD's goal to embrace high standards of ethics, management, and accountability. HUD will hold a training broadcast via satellite for potential applicants to learn more about Rating Factor 5. For more information about the date and time of the broadcast, consult the HUD Web site at http://www.hud.gov/grants/index.cfm.

Program outcomes for the Rural Housing and Economic Development program must include where applicable:

a. Number of housing units constructed;

b. Number of housing units rehabilitated that will be made available to low-to-moderate-income participants;

c. Number of jobs created;

d. Percentage change in earnings as a result of employment for those participants;

e. Number of participants trained;

f. Percent of participants trained who find a job;

g. Number of new businesses created;

h. Number of existing businesses assisted; and

i. Annual estimated savings for low-income families as a result of energy efficiency improvements.

j. Increase in program accomplishments as a result of capacity building assistance (e.g., number of employees hired or retained, efficiency or effectiveness of services provided); and

k. Increase in organizational resources as a result of assistance (e.g., dollars leveraged).

6. RC/EZ/EC Bonus Points (2 points)

HUD will award two bonus points to all applications that include documentation stating that the proposed eligible activities/projects will be located in and serve federally designated Rural Renewal Communities, Rural Empowerment Zones, or Rural Enterprise Communities (Rural EZs/ECs). A listing of federally designated Rural RCs, EZs, and ECs is available on the Internet at http://www.hud.gov/grants/index.cfm.

This notice contains a certification that must be completed for the applicant to be considered for Rural EZ/EC bonus points.

B. Review and Selection Process

1. Application Selection Process

a. Rating and Ranking

(1) General. To review and rate applications, HUD may establish panels which may include outside experts or consultants to obtain certain expertise and outside points of view, including views from other federal agencies.

(2) Rating. All applicants for funding will be evaluated against applicable criteria. In evaluating applications for funding, HUD will take into account an applicant's past performance in managing funds, including the ability to account for funds appropriately; its timely use of funds received either from HUD or other federal, state or local programs; its success in meeting performance targets for completion of activities; and the number of persons to be served or targeted for assistance. HUD may use information relating to these items based on information at hand or available from public sources such as newspapers, Inspector General or Government Accounting Office reports or findings, hotline complaints that have been found to have merit, or other such sources of information. In evaluating past performance, HUD will deduct points from rating scores as specified under Rating Factor 1, Capacity of the Applicant and Relevant Organizational Experience.

(3) Ranking. Applicants will be ranked separately within each of the two funding categories. Applicants will be selected for funding in accordance with their rank order in each category. An application must receive a minimum score of 75 points to be eligible for funding. If two or more applications are rated fundable and have the same score, but there are insufficient funds to fund all of them, the application(s) with the highest score for Rating Factor 2 (Need and Extent of the Problem) will be selected. If applications still have the same score, the highest score in the following factors will be selected sequentially until one highest score can be determined: Rating Factor 3 (Soundness of Approach), Rating Factor 1 (Capacity and Experience), Rating Factor 5 (Achieving Results and Program Evaluation), and Rating Factor 4 (Leveraging Resources).

b. Initial screening. During the period immediately following the application deadline, HUD will screen each application to determine eligibility. Applications will be rejected, if they do not meet the Threshold Requirements described in Section III.C.3. of this NOFA.

(1) Are submitted by ineligible applicants;

(2) Do not serve an eligible rural area as defined in Section III of this NOFA;

(3) Do not meet the objectives of the Rural Housing and Economic Development program; or

(4) Propose a project for which the majority of the activities are ineligible.

c. Rating Factors for Award Used to Evaluate and Rate Applications. The factors for rating and ranking applicants and the maximum points for each factor are provided above. The maximum number of points for this program is 102. This includes 100 points for all five rating factors and two Rural EZ/EC bonus points, as described above

d. Forms, Certifications and Assurances. Applicants are required to submit signed copies of the standard forms, certifications and assurances included in the appendices of this NOFA signed by the managing officer of your organization.

e. Environmental Review. Each application constitutes an assurance that the applicant agrees to assist HUD in complying with the provisions set forth in 24 CFR part 50. Selection for award does not constitute approval of any proposed site. Following selection for award, HUD will perform an environmental review of activities proposed for assistance under this part, in accordance with 24 CFR part 50. The results of the environmental review may require that proposed activities be modified or that proposed sites be rejected. Applicants are particularly cautioned not to undertake or commit HUD funds for acquisition or development of proposed properties (including establishing lines of credit that permit financing of such activities or making commitments for loans that would finance such activities from a revolving loan fund capitalized by funds under this NOFA) prior to HUD approval of specific properties or areas. Each application constitutes an assurance that you, the applicant, will assist HUD in complying with part 50; will supply HUD with all available relevant information to perform an environmental review for each proposed property; will carry out mitigating measures required by HUD or select alternate property; and will not acquire, rehabilitate, convert, demolish, lease, repair, or construct property, or commit or expend HUD or local funds for these program activities with respect to any eligible property until HUD approval of the property is received. In supplying HUD with environmental information, grantees must use the guidance provided in Notice CPD-99-01, entitled “Field Environmental Processing for HUD Colonias Initiative (HCI) grants,” issued January 27, 1999. HUD's funding commitment is contingent upon HUD's site approval following an environmental review.

f. Adjustments to Funding.

(1) HUD will not fund any portion of your application that is not eligible for funding under the Rural Housing and Economic Development program statutory or regulatory requirements, does not meet the requirements of this NOFA, or is duplicative of other funded programs or activities from prior year awards or other selected applicants. Only the eligible non-duplicative portions of your application may be funded.

(2) HUD reserves the right to utilize this year's funding to correct errors in the prior year's selection process prior to the rating and ranking of this year's applications. Additionally, HUD reserves the right to reallocate funds between categories to achieve the maximum allocation of funds in both categories.

(3) If after all eligible applicants have been selected for funding in Category 1 and funds remain, the remaining funds will be allocated to Category 2 to fund additional eligible applications in that category. If a balance of funds remains, HUD reserves the right to utilize those funds toward the following year's awards.

(4) In the event HUD commits an error that, when corrected, would result in selection of an otherwise eligible applicant during the funding round of a NOFA, HUD may select that applicant when sufficient funds become available.

(5) Performance and Compliance Actions of Funding Recipients. HUD will measure and address the performance and compliance actions of funding recipients in accordance with the applicable standards and sanctions of the Rural Housing and Economic Development program.

g. Corrections to Deficient Applications. After the application due date, HUD may not, consistent with its regulations in 24 CFR part 4, subpart B, consider any unsolicited information you, the applicant, may want to provide. HUD may contact you, however, to clarify an item in your application or to correct technical deficiencies. You should note, however, that HUD may not seek clarification of items or responses that improve the substantive quality of your response to any eligibility or selection factor.

Examples of curable (correctable) technical deficiencies include inconsistencies in the funding request, a failure to submit the proper certifications or failure to submit an application that contains an original signature by an authorized official. In each case, HUD will notify you in writing of a technical deficiency. HUD will notify applicants by facsimile or by USPS, return receipt requested. Clarifications or corrections of technical deficiencies in accordance with the information requested by HUD must be submitted within five calendar days after the date you receive HUD notification. (If the due date falls on a Saturday, Sunday, or federal holiday, your correction must be received by HUD on the next day that is not a Saturday, Sunday or federal holiday). The determination of when you received the deficiency letter will be based on the confirmation of the facsimile transmission, return receipt, or postal tracking information, as appropriate. If the deficiency is not corrected within this time period, HUD will reject the application as incomplete and it will not be considered for funding.

2. HUD's Strategic Goals

Implementing HUD's Strategic Framework and Demonstrating Results. HUD is committed to ensuring that programs result in the achievement of HUD's strategic mission. To support this effort, grant applications submitted for HUD programs will be rated on how well they tie proposed outcomes to HUD's policy priorities and annual goals and objectives and on the quality of the applicant's proposed evaluation and monitoring plan. HUD's Strategic Framework establishes the following goals and objectives for the Department:

a. Increase Homeownership Opportunities

(1) Expand national homeownership opportunities.

(2) Increase minority homeownership.

(3) Make the home buying process less complicated and less expensive.

(4) Fight practices that permit predatory lending.

(5) Help HUD-assisted renters become homeowners.

(6) Keep existing homeowners from losing their homes.

b. Promote Decent Affordable Housing

(1) Expand access to affordable rental housing.

(2) Improve the physical quality and management accountability of public and assisted housing.

(3) Increase housing opportunities for the elderly and persons with disabilities.

(4) Help HUD-assisted renters make progress toward self-sufficiency.

c. Strengthen Communities

(1) Improve economic conditions in distressed communities.

(2) Make communities more livable.

(3) End chronic homelessness.

(4) Mitigate housing conditions that threaten health.

d. Ensure Equal Opportunity in Housing

(1) Resolve discrimination complaints on a timely basis.

(2) Promote public awareness of Fair Housing laws.

(3) Improve housing accessibility for persons with disabilities.

e. Embrace High Standards of Ethics, Management, and Accountability

(1) Rebuild HUD's human capital and further diversify its workforce.

(2) Improve HUD's management, internal controls, and systems and resolve audit issues.

(3) Improve accountability, service delivery, and customer service of HUD and our partners.

(4) Ensure program compliance.

f. Promote Participation of Grassroots Faith-Based and Other Community-Based Organizations

(1) Reduce regulatory barriers to participation by grassroots faith-based and other community-based organizations.

(2) Conduct outreach to inform potential partners of HUD opportunities.

(3) Expand technical assistance resources deployed to grassroots faith-based and other community-based organizations.

(4) Encourage partnerships between grassroots faith-based and other community-based organizations and HUD's traditional grantees.

You can find out about HUD's Strategic Framework and Annual Performance Plans at http://www.hud.gov/offices/cfo/reports/cforept.cfm.

3. Policy Priorities

HUD encourages applicants to undertake specific activities that will assist the Department in implementing its policy priorities and that help the Department achieve its goals for FY2004 and beyond, when the majority of funding recipients will be reporting programmatic results and achievements. Applicants that include work activities that specifically address one or more of these policy priorities will receive higher rating scores than applicants that do not address these HUD priorities. Above, this NOFA specifies which priorities relate to this program and how many points will be awarded for addressing those priorities.

Listed below are HUD's FY2004 policy priorities:

a. Providing Increased Homeownership and Rental Opportunities for Low- and Moderate-Income Persons, Persons with Disabilities, the Elderly, Minorities, and Families with Limited English Proficiency. Too often, these individuals and families are shut out of the housing market through no fault of their own. Developers of housing, housing counseling agencies, and other organizations engaged in the housing industry must work aggressively to open up the realm of homeownership and rental opportunities to low- and moderate-income persons, persons with disabilities, the elderly, minorities, and families with limited English proficiency. Many of these families are anxious to have a home of their own, but are not aware of the programs and assistance that are available. Applicants are encouraged to address the housing, housing counseling, and other related supportive service needs of these individuals and coordinate their proposed activities with funding available through HUD's affordable housing programs and home loan programs.

Proposed activities support strategic goals a, b, and d.

b. Improving our Nation's Communities. HUD wants to improve the quality of life for those living in distressed communities. Applicants are encouraged to include activities which:

(1) Bring private capital into distressed communities;

(a) Finance business investment to grow new businesses;

(b) Maintain and expand existing businesses;

(c) Create a pool of funds for new small and minority-owned businesses; and

(d) Create decent jobs for low-income persons.

(2) Improve the environmental health and safety of families living in public and privately-owned housing by including activities which:

(a) Coordinate lead hazard reduction programs with weatherization activities funded by state and local governments, and the federal government; and

(b) Reduce or eliminate health related hazards in the home caused by toxic agents such as molds and other allergens, carbon monoxide, and other hazardous agents and conditions.

(3) Make communities more livable by:

(a) Providing public and social services; and

(b) Improving infrastructure and community facilities.

Activities support strategic goals b, c, and d.

c. Encouraging Accessible Design Features. As described in Section III.C.3.c., applicants must comply with applicable civil rights laws including the Fair Housing Act, Section 504 of the Rehabilitation Act of 1973, and the Americans with Disabilities Act. These laws and the regulations implementing them provide for nondiscrimination based on disability and require housing and other facilities to incorporate certain features intended to provide for their use and enjoyment by persons with disabilities. HUD is encouraging applicants to add accessible design features beyond those required under civil rights laws and regulations. These features would eliminate many other barriers limiting the access of persons with disabilities to housing and other facilities. Copies of the Uniform Federal Accessibility Standards (UFAS) are available from the NOFA Information Center (800-HUD-8929 or 800-HUD-2209 (TTY)) and also from the Office of Fair Housing and Equal Opportunity, Department of Housing and Urban Development, Room 5230, 451 Seventh Street, SW., Washington, DC 20410-2000, 202-755-5404 or toll-free 800-877-8339 (TTY Federal Information Relay Service).

Accessible design features are intended to promote visitability and incorporate features of universal design as described below:

(1) Visitability in New Construction and Substantial Rehabilitation. Applicants are encouraged to incorporate visitability standards where feasible in new construction and substantial rehabilitation projects. Visitability standards allow a person with mobility impairments access into the home, but do not require that all features be made accessible. Visitability means that there is at least one entrance at grade (no steps) approached by an accessible route such as a sidewalk and that the entrance door and all interior passage doors are at least 2 feet 10 inches wide, allowing 32 inches of clear passage space. A visitable home also serves persons without disabilities, such as a mother pushing a stroller or a person delivering a large appliance. More information about visitability is available at http://www.concretechange.org.

Activities support strategic goals b, c, and d.

(2) Universal Design. Applicants are encouraged to incorporate universal design in the construction or rehabilitation of housing, retail establishments, and community facilities funded with HUD assistance. Universal design is the design of products and environments to be usable by all people to the greatest extent possible, without the need for adaptation or specialized design. The intent of universal design is to simplify life for everyone by making products, communications, and the built environment more usable by as many people as possible at little or no extra cost. Universal design benefits people of all ages and abilities. In addition to any applicable required accessibility features under Section 504 of the Rehabilitation Act of 1973 or the design and construction requirements of the Fair Housing Act, the Department encourages applicants to incorporate the principles of universal design when developing housing, community facilities, and electronic communication mechanisms or when communicating with community residents at public meetings or events.

HUD believes that by creating housing that is accessible to all, it can increase the supply of affordable housing for all, regardless of ability or age. Likewise, creating places where people work, train, and interact that are useable and open to all residents increases opportunities for economic and personal self-sufficiency. More information on universal design is available from the Center for Universal Design, at http://www.design.ncsu.edu:8120/cud/, or the Resource Center on Accessible Housing and Universal Design, at http://www.abledata.com/Site_2/accessib.htm.

Activities support strategic goals a, b, c, and d.

d. Providing Full and Equal Access to Grassroots Faith-Based and Other Community-Based Organizations in HUD Program Implementation.

(1) HUD encourages nonprofit organizations, including grassroots faith-based and other community-based organizations, to participate in the vast array of programs for which funding is available through HUD's programs. HUD also encourages states, units of local government, universities and colleges, and other organizations to partner with grassroots organizations, e.g., civic organizations, faith-communities, and grassroots faith-based and other community-based organizations, that have not been effectively utilized. These grassroots organizations have a strong history of providing vital community services, such as assisting the homeless and preventing homelessness, counseling individuals and families on fair housing rights, providing elderly housing opportunities, developing first-time homeownership programs, increasing homeownership and rental housing opportunities in neighborhoods of choice, developing affordable and accessible housing in neighborhoods across the country, creating economic development programs, and supporting the residents of public housing facilities. HUD wants to make its programs more effective, efficient, and accessible by expanding opportunities for grassroots organizations to participate in developing solutions for their own neighborhoods. Additionally, HUD encourages applicants to include these grassroots faith-based and other community-based organizations in their workplans. Potential applicants, their partners, and their participants must review the individual FY2004 HUD program announcements to determine whether they are eligible to apply for funding directly or whether they must establish a working relationship with an eligible applicant in order to participate in a HUD funding opportunity. Grassroots faith-based and other community-based organizations, and applicants who currently or propose to partner, fund, subgrant, or subcontract with grassroots organizations (including grassroots faith-based or other community-based nonprofit organizations eligible under applicable program regulations) in conducting their work programs will receive higher rating points as specified in rating factor 3 above.

(2) Definition of Grassroots Organizations:

(a) HUD will consider an organization a “grassroots organization” if the organization is headquartered in the local community to which it provides services; and,

(i) Has a social services budget of $300,000 or less, or

(ii) Has six or fewer full-time equivalent employees.

(b) Local affiliates of national organizations are not considered “grassroots organizations.” Local affiliates of national organizations are encouraged, however, to partner with grassroots organizations, and must demonstrate that they are currently working with a grassroots organization (e.g., by having a faith community or civic organization, or other charitable organization provide volunteers).

(c) The cap provided in paragraph (2)(a)(i) above includes only that portion of an organization's budget allocated to providing social services. It does not include other portions of the budget such as salaries and expenses not directly expended in the provision of social services.

Activities support strategic goal f.

e. Participation of Minority-Serving Institutions in HUD Programs. Pursuant to Executive Orders 13256, “President's Board of Advisors on Historically Black Colleges and Universities,” 13230, “President's Advisory Commission on Educational Excellence for Hispanic Americans,” 13216, “Increasing Participation of Asian Americans and Pacific Islanders in Federal Programs,” and 13270, “Tribal Colleges and Universities,” HUD is strongly committed to broadening the participation of Minority-Serving Institutions (MSIs) in its programs. HUD is interested in increasing the participation of MSIs in order to advance the development of human potential, strengthen the nation's capacity to provide high quality education, and increase opportunities for MSIs to participate and benefit from federal financial assistance programs. HUD encourages all applicants and recipients to include meaningful participation of MSIs in their work programs. A listing of MSIs can be found on the Department of Education Web site at http://www.ed.gov/about/offices/list/ocr/edlite-minorityinst.html or HUD's Web site at http://www.hud.gov/grants/index.cfm.

Activities support strategic goals c and d.

f. Ending Chronic Homelessness within 10 Years. President Bush has set a national goal to end chronic homelessness within 10 years. Secretary Alphonso Jackson has embraced this goal and has pledged that HUD's grant programs will be used to support the President's goal and more adequately meet the needs of chronically homeless individuals. A person experiencing chronic homelessness is defined as an unaccompanied individual with a disabling condition who has been continuously homeless for a year or more or has experienced four or more episodes of homelessness over the last three years. Applicants are encouraged to target assistance to chronically homeless persons by undertaking activities that will result in:

(1) Creation of affordable group homes or rental housing units;

(2) Establishment of a set-aside of units of affordable housing for the chronically homeless;

(3) Establishment of substance abuse treatment programs targeted to the homeless population;

(4) Establishment of job training programs that will provide opportunities for economic self-sufficiency;

(5) Establishment of counseling programs that assist homeless persons in finding housing, financial management, anger management, and building interpersonal relationships;

(6) Provision of supportive services, such as health care assistance that will permit homeless individuals to become productive members of society;

(7) Provision of service coordinators or one-stop assistance centers that will ensure that chronically homeless persons have access to a variety of social services.

Applicants who are developing programs to meet the goals set in this policy priority should be mindful of the requirements of the regulations implementing Section 504 of the Rehabilitation Act of 1973, in particular, 24 CFR 8.4(b)(1)(iv), 8.4(c)(1), and 8.4(d).

Activities support strategic goals b and c.

g. Removal of Regulatory Barriers to Affordable Housing. HUD is seeking input into how it can more effectively work with the public and private sectors to remove regulatory barriers to affordable housing. The notice addresses how HUD will evaluate the effectiveness of state and local government efforts to remove regulatory barriers to affordable housing.

Increasing the affordablity of rental and homeownership housing continues to be a high priority of the Department. Over the last 15 years, there has been increased recognition that unnecessary, duplicative, excessive, or discriminatory public processes often significantly increase the cost of housing development and rehabilitation. Often referred to as “regulatory barriers to affordable housing,” many public statutes, ordinances, regulatory requirements, or processes and procedures significantly impede the development or availability of affordable housing without providing a commensurate or demonstrable health or safety benefit. “Affordable housing” is decent quality housing that low-, moderate-, and middle-income families can afford to buy or rent without spending more than 30 percent of their income; spending more than 30 percent of income on shelter may require families to sacrifice other necessities of life.

Addressing these barriers to housing affordability is a necessary component of any overall national housing policy. However, addressing such barriers must be viewed as a complement to, not a substitute for, other efforts to meet affordable housing needs. For many families, federal, state and local subsidies are fundamental tools for meeting these affordable needs. In many instances, however, other sometimes well-intentioned public policies work at cross-purposes with subsidy programs by imposing significant constraints. From zoning that keeps out affordable housing, especially multifamily housing, to other regulations and requirements that unnecessarily raise the costs of construction, the need to address this issue is clear. For example, affordable rehabilitation is often constrained by outmoded building codes that require excessive renovation. Barrier removal will not only make it easier to find and get approval for affordable housing sites, but it will also allow available subsidies to go further in meeting these needs. For housing for moderate-income families often referred to as “work force” housing, barrier removal can be the most essential component of meeting housing needs.

Under this policy priority, higher rating points are available to (1) governmental applicants that are able to demonstrate successful efforts in removing regulatory barriers to affordable housing, and (2) nongovernmental applicants that are associated with jurisdictions that have undertaken successful efforts in removing barriers. To obtain the policy priority points for efforts to successfully remove regulatory barriers, applicants must complete form HUD-27300, “Questionnaire for HUD's Initiative on Removal of Regulatory Barriers.” A copy of HUD's Notice entitled “America's Affordable Communities Initiative, HUD's Initiative on Removal of Regulatory Barriers: Announcement of Incentive Criteria on Barrier Removal in HUD's FY2004 Competitive Funding Allocations” can be found on HUD's Web site at http://www.hud.gov/grants/index.cfm.

Local jurisdictions and counties with land use and building regulatory authority applying for funding, as well as housing authorities, nonprofit organizations, and other qualified applicants applying for funding for a project located in these jurisdictions, are invited to answer the 20 questions in PART A of form HUD-27300. For those applications in which regulating authority is split between jurisdictions (e.g., county and town) the applicant should answer the question for that jurisdiction that has regulatory authority over the issue at question. An applicant that scores at least five in Column 2 will receive one point in the NOFA evaluation. An applicant that scores 10 or more in Column 2 will receive two points in the evaluation.

State agencies or departments applying for funding, as well as housing authorities, nonprofit organizations and other qualified applicants applying for funds for projects located in unincorporated areas or areas otherwise not covered in Part A are invited to answer the 15 questions in PART B. Under Part B an applicant that scores at least four in Column 2 will receive one point in the NOFA evaluation. Under Part B an applicant that scores eight or greater will receive two points in the respective evaluation. Applicants that propose to provide services in multiple jurisdictions may choose to address the questions in either PART A or Part B for that jurisdiction in which the preponderance of services will be performed if an award is made. In no case will an applicant receive for this policy priority more than two points for barrier removal activities. An applicant that is a tribe or tribally designated housing entity (TDHE) may choose to complete either PART A or PART B based upon a determination by the tribe or TDHE as to whether the tribe's or the TDHE's association with the local jurisdiction or the state would be more advantageous to its application.

Note: Upon completion of all NOFA evaluations, grant selections, and awards, it is HUD's intent to add relevant data obtained from this evaluative factor to the database on state and local regulatory reform actions maintained at the Regulatory Barrier Clearinghouse Web site at http://www.huduser.org/rbc/ used by states, localities, and housing providers to identify regulatory barriers and learn of exemplary local efforts at regulatory reform.

Form HUD-27300 can be found in the appendix to this NOFA. A limited number of questions on form HUD-27300 expressly request the applicant to provide brief documentation with its response. Other questions require that for each affirmative statement made, the applicant must supply a reference, URL, or brief statement indicating where the back-up information may be found and a point of contact, including a telephone number or e-mail address. Applicants are encouraged to read the March 22, 2004, Federal Register notice (69 FR 13450) to obtain a more complete understanding of this policy priority and how it can impact their score. HUD also will be providing a satellite broadcast on this subject as part of its NOFA training. The NOFA webcast schedule can be found on HUD's Web site at: http://www.hud.gov/grants/index.cfm.

Activities support strategic goals a and b.

C. Anticipated Announcement and Award Dates

June 1, 2004.

VI. Award Administration Information

A. Award Notices

1. Award Notice. Successful Rural Housing and Economic Development program applicants will be notified of grant award and will receive post-award instructions by mail.

2. Applicant Debriefing. For a period of at least 120 days, beginning 30 days after the awards for assistance are publicly announced, HUD will provide to a requesting applicant a debriefing related to its application. All debriefing requests must be made in the form of a letter and mailed by the authorized official whose signature appears on the SF-424 or his or her successor in office and submitted to the person or organization identified as the Contact under the section entitled “VII. Agency Contact(s)” in this NOFA. Information provided during a debriefing will include, at a minimum, the final score you received for each rating factor, final evaluator comments for each rating factor, and the final assessment indicating the basis upon which assistance was provided or denied.

Any applicant may obtain a debriefing of its application. Applicants requesting a debriefing must mail a letter of request to Jackie L. Williams, Ph.D., Director, Office of Rural Housing and Economic Development, 451 Seventh Street, SW., Room 7137, Washington, DC 20410-7000.

3. Negotiation. After HUD has rated and ranked all applications and made selections, HUD may require that a selected applicant participate in negotiations to determine the specific terms of the funding agreement and budget. In cases where HUD cannot successfully conclude negotiations with a selected applicant or a selected applicant fails to provide HUD with requested information, an award will not be made to that applicant. In such an instance, HUD may offer an award and proceed with negotiations with the next highest-ranking applicant.

B. Administrative and National Policy Requirements

1. Lead-Based Paint Hazard Control. All property assisted under the Rural Housing and Economic Development program is covered by the Lead-Based Paint Poisoning Prevention Act (42 U.S.C. 4821-4846) and HUD's implementing regulations at 24 CFR part 35.

2. Audit Requirements. Any grantee that expends $500,000 or more in federal financial assistance in a single year (this can be program year or fiscal year) must meet the audit requirements established in 24 CFR parts 84 and 85 in accordance with OMB A-133.

3. Participation in HUD-sponsored Program Evaluation. As a condition of receipt of award under this NOFA, you will be required to cooperative with HUD staff or contractors performing HUD-funded research and evaluation studies relating to the work conducted under the award.

4. Accounting System Requirements. The Rural Housing and Economic Development program requires that successful applicants have in place an accounting system that meets the policies, guidance, and requirements described in the following applicable OMB Circulars and Code of Federal Regulations:

a. OMB Circular A-87 (Cost Principles Applicable to Grants, Contracts and Other Agreements with State and Local Governments);

b. OMB Circular A-122 (Cost Principles for Non-Profit Organizations);

c. OMB Circular A-133 (Audits of States, Local Governments, and Non-Profit Organizations);

d. 24 CFR part 84 (Grants and Agreements with Institutions of Higher Education, Hospitals, and other Non-Profit Organizations); and

e. 24 CFR part 85 (Administrative Requirements for Grants and Cooperative Agreements to State, Local, and Federally recognized Indian tribal governments).

C. Reporting

Reporting documents apply to the award, acceptance and use of assistance under the Rural Housing and Economic Development program and to the remedies for noncompliance, except when inconsistent with the provisions of the Consolidated Appropriations Act, 2004, other federal statutes, or the provisions of this NOFA.

For each reporting period, as part of your required report to HUD, you must include a completed Logic Model (Form HUD 96010), which identifies output and outcome achievements.

VII. Agency Contact(s)

Further Information and Technical Assistance: For information concerning the HUD Rural Housing and Economic Development program, contact Ms. Holly A. Kelly, Economic Development Program Specialist, or Ms. Linda L. Streets, Community Development Specialist, Office of Rural Housing and Economic Development, Office of Community Planning and Development, Department of Housing and Urban Development, 451 Seventh Street, SW., Room 7137, Washington, DC 20410-7000; telephone 202-708-2290 (this is not a toll-free number). Persons with speech or hearing impairments may access this number via TTY by calling the toll-free Federal Information Relay Service at 800-877-8339.

Prior to the application deadline, Ms. Kelly or Ms. Streets will be available at the number above to provide general guidance and clarification of the NOFA, but not guidance in actually preparing your application. Following selection, but prior to award, HUD staff will be available to assist in clarifying or confirming information that is a prerequisite to the offer of an award by HUD.

VIII. Other Information

1. Satellite Broadcast

HUD will hold an information webcast via satellite for potential applicants to learn more about the program and preparation of an application. For more information about the date and time of this webcast, consult the HUD Web site at http://www.hud.gov.

2. The Paperwork Reduction Act

The information collection requirements contained in this document have been approved by the Office of Management and Budget (OMB) under the Paperwork Reduction Act of 1995 (44 U.S.C. 3501-3520) and assigned OMB control number 2506-0169. In accordance with the Paperwork Reduction Act, HUD may not conduct or sponsor and a person is not required to respond to a collection of information, unless it displays a currently valid OMB control number. Public reporting burden for the collection of information is estimated to average 100 hours per annum per respondent for the application and grant administration. This includes the time for collecting, reviewing and reporting the data for the application, semi-annual reports, and final report. The information will be used for grantee selection and monitoring the administration of funds.

3. Grants.gov and Public Law 106-107 Streamlining Activities

The Federal Financial Assistance Management Improvement Act of 1999 (Pub. L. 106-107) directs each federal agency to develop and implement a plan that, among other things, streamlines and simplifies the application, administrative, and reporting procedures for federal financial assistance programs administered by the agency. This law also requires the Director of the Office of Management and Budget (OMB) to direct, coordinate, and assist federal agencies in establishing (1) a common application and reporting system, and (2) an interagency process for addressing ways to streamline and simplify federal financial assistance application and administrative procedures and reporting requirements for program applicants.

HUD is working with the 26 federal grant-making agencies on President George W. Bush's Grants.gov “FIND and APPLY” Initiative. This initiative is an effort by federal agencies to develop a common electronic application and reporting system for federal financial assistance. This system will provide “one-stop shopping” for funding opportunities for all federal programs. This system is being developed in response to public and government concerns that it is difficult for organizations to know all the funding available from the federal government and how to apply for funding. It also is an effort by the federal government to develop common application requirements and further streamlining the application process, making it easier for you, HUD's customers, to apply for funding.

The first segment of the initiative focuses on allowing the public to easily FIND funding opportunities and then APPLY via Grants.gov. Funding decisions will still be under the control of the federal agency sponsoring the program funding opportunity. In FY2004, HUD is posting all of its funding notices on http://www.Grants.gov/FIND with links to HUD's Web site for copies of the NOFA sections and fillable forms which applicants can download and complete for submission of paper copy applications. During FY2004 HUD applicants will be able to continue to submit paper copies of their application to HUD for funding consideration and, in fact, the paper copy will be the official copy to submit to the Department. To find out more about Grants.gov, please go to its Web site and look at the Tutorials and Getting Started information. It is HUD's intent to move to a fully electronic application system in FY2005, so an early test of this feature would benefit both the applicant community and HUD.

4. Executive Orders and Congressional Intent

a. Executive Order 13132, Federalism. Executive Order 13132 prohibits, to the extent practicable and permitted by law, an agency from promulgating policies that have federalism implications and either impose substantial direct compliance costs on state and local governments and are not required by statute, or preempt state law, unless the relevant requirements of section 6 of the executive order are met. This NOFA does not have federalism implications and does not impose substantial direct compliance costs on state and local governments or preempt state law within the meaning of the executive order.

b. Sense of Congress. It is the sense of Congress, as published in Division G of the Consolidated Appropriations Act, 2004 (Public Law 108-199, approved January 23, 2004) that, to the greatest extent practicable, all equipment and products purchased with funds made available in the Consolidated Appropriations Act, 2004, should be American-made.

5. Public Access, Documentation, and Disclosure

Section 102 of the Department of Housing and Urban Development Reform Act of 1989 (42 U.S.C. 3545) (HUD Reform Act) and the regulations codified in 24 CFR part 4, subpart A, contain a number of provisions that are designed to ensure greater accountability and integrity in the provision of certain types of assistance administered by HUD. On January 14, 1992, HUD published a notice that also provides information on the implementation of Section 102 (57 FR 1942). The documentation, public access, and disclosure requirements of Section 102 apply to assistance awarded under this NOFA as follows:

a. Documentation, public access, and disclosure requirements. HUD will ensure that documentation and other information regarding each application submitted pursuant to this NOFA are sufficient to indicate the basis upon which assistance was provided or denied. This material, including any letters of support, will be made available for public inspection for a five-year period beginning not less than 30 days after the award of the assistance. Material will be made available in accordance with the Freedom of Information Act (5 U.S.C. 552) and HUD's implementing regulations (24 CFR part 15).

b. Form HUD-2880. HUD will also make available to the public for five years all applicant disclosure reports (Form HUD-2880) submitted in connection with this NOFA. Update reports (also reported on Form HUD-2880) will be made available along with the applicant disclosure reports, but in no case for a period of less than three years. All reports, both applicant disclosures and updates, will be made available in accordance with the Freedom of Information Act (5 U.S.C. 552) and HUD's implementing regulations (24 CFR part 5).

c. Publication of Recipients of HUD Funding. HUD's regulations at 24 CFR part 4 provide that HUD will publish a notice in the Federal Register to notify the public of all decisions made by the Department to provide:

(1) Assistance subject to Section 102(a) of the HUD Reform Act; and

(2) Assistance provided through grants or cooperative agreements on a discretionary (non-formula, non-demand) basis, but that is not provided on the basis of a competition.

6. Section 103 of the HUD Reform Act

HUD's regulations implementing Section 103 of the Department of Housing and Urban Development Reform Act of 1989 (42 U.S.C. 3537a), codified at 24 CFR 4.26(c) and 4.28, apply to this funding competition. The regulations continue to apply until the announcement of the selection of successful applicants. HUD employees involved in the review of applications and in the making of funding decisions are prohibited by the regulations from providing advance information to any person (other than an authorized employee of HUD) concerning funding decisions or otherwise giving any applicant an unfair competitive advantage. Persons who apply for assistance should confine their inquiries to the subject areas permitted under 24 CFR part 4.

Applicants or employees who have ethics-related questions should contact HUD's Ethics Law Division at 202-708-3815. (This is not a toll-free number.) The TTY number for persons with hearing or speech impairment is 800-877-8339. HUD employees who have specific program questions should contact the appropriate field office counsel or Headquarters counsel for the Rural Housing and Economic Development program.

7. The FY2004 HUD NOFA Process and Future HUD Funding Processes

Each year, HUD strives to improve its NOFA process. The FY2004 NOFAs have been revised based upon comments received during the FY2003 funding process. HUD continues to welcome comments and feedback from applicants and other members of the public on how HUD may further improve its competitive funding process. In FY2004, as part of Public Law 106-107 streamlining efforts and the interagency eGrants Initiative, HUD is making considerable changes to the format and presentation of its funding notices. HUD is continually striving to ensure effective communication with our program funding recipients and potential funding recipients. HUD has been posting pertinent documents related to these efforts on its Web site. HUD encourages you to visit our Web site on an ongoing basis to keep abreast of the latest developments. The Web site address for information on the Grants.gov Initiative is http://www.hud.gov/offices/adm/grants/egrants/egrants.cfm. Information on Grant streamlining activities can be found at http://www.hud.gov/offices/adm/grants/pl-106107/pl106-107.cfm.

Dated: April 19, 2004.
Roy A. Bernardi,
Assistant Secretary for Community Planning and Development.

The Appendix of Forms for the Rural Housing and Economic Development NOFA follows:

BILLING CODE 4210-29-P

[FR Doc. 04-9276 Filed 4-20-04; 3:46 pm]

BILLING CODE 4210-29-C